DEPARTMENT OF THE INTERIOR

Fish and Wildlife Service

Notice of Availability of an Environmental Assessment/Habitat Conservation Plan and Receipt of an Application for a Permit for the Incidental Take of the Bone Cave Harvestman (Texella reyesi) During Construction and Operation of Commercial Developments on Portions of 5.94 acres (Lots 1, 2, 3, 4, and 5) at RR 620 and Great Oaks Drive, Round Rock, Williamson County, Texas (Sultan & Kahn).

SUMMARY: Sultan and Kahn Partnership, Ltd. (Applicant) has applied to the U.S. Fish and Wildlife Service (Service) for an incidental take permit pursuant to Section 10(a) of the Endangered Species Act (Act). The Applicant has been assigned permit number TE-035525-0. The requested permit, which is for a period of 30 years, would authorize the incidental take of the endangered Bone Cave Harvestman (Texella reyesi). The proposed take would occur as a result of the construction and occupation of two commercial developments on 5.94 acres (Lots 1, 2, 3, 4, and 5) at RR 620 and Great Oaks Drive, Williamson County, Texas.

The Service has prepared the Environmental Assessment/Habitat Conservation Plan (EA/HCP) for the incidental take application. A determination of jeopardy to the species or a Finding of No Significant Impact (FONSI) will not be made until at least 30 days from the date of publication of this notice. This notice is provided pursuant to Section 10(c) of the Act and National Environmental Policy Act regulations (40 CFR 1506.6).

DATES: Written comments on the application should be received before January 16, 2001.

ADDRESSES: Persons wishing to review the application may obtain a copy by writing to the Regional Director, U.S. Fish and Wildlife Service, P.O. Box 1306, Room 4102, Albuquerque, New Mexico 87103. Persons wishing to review the EA/HCP may obtain a copy by contacting Sybil Vosler, U.S. Fish and Wildlife Service, 10711 Burnet Road, Suite 200, Austin, Texas 78758 (512/490-0057). Documents will be available for public inspection by written request, by appointment only, during normal business hours (8:00 to 4:30) at the U.S. Fish and Wildlife Service, Austin, Texas. Written data or comments concerning the application and EA/HCP should be submitted to the Supervisor, U.S. Fish and Wildlife Service, Austin, Texas, at the above address. Please refer to permit number TE-035525-0 when submitting comments.

FOR FURTHER INFORMATION CONTACT: Sybil Vosler at the above U.S. Fish and Wildlife Service, Austin Office.

SUPPLEMENTARY INFORMATION: Section 9 of the Act prohibits the “taking” of endangered species such as the Bone Cave Harvestman. However, the Service, under limited circumstances, may issue permits to take endangered wildlife species incidental to, and not the purpose of, otherwise lawful activities. Regulations governing permits for endangered species are at 50 CFR 17.22.

APPLICANT: Sultan and Kahn Partnership, Ltd. plans to construct two commercial developments on 5.94 acres (Lots 1, 2, 3, 4, and 5) at RR 620 and Great Oaks Drive, Williamson County, Texas. This action will occur on less than 2.41 acres (Lots 1, 4, and portions of Lots 2 and 5) and will indirectly impact the ecosystem of Back Bat/Beck Crevice Cave and Beck Pride Cave, which contain the endangered Bone Cave Harvestman. The development will eliminate less than 1.6 acres of cave cricket habitat, upon which the Bone Cave Harvestman depends, and may cause deterioration of the cave ecosystem by encouraging fire ants, altering the surface and subsurface moisture and temperature regimes, and increasing human impacts. The applicant proposes to compensate for this incidental take of Bone Cave Harvestman habitat by planting a 30-foot-wide native plant landscape buffer between the development and the cave conservation area; monitoring and treating for introduced fire ants on the undeveloped portions of Lots 2, 3, and 5; restricting the use of pesticides and herbicides; and prohibiting the use of the premises for businesses that have the potential to contaminate sub-surface karst and/or groundwater, such as gas stations and dry cleaners.

Jeoffey L. Haskett,
Acting Regional Director, Region 2, Albuquerque, New Mexico.

[FR Doc. 00-31891 Filed 12-14-00; 8:45 am]

BILLING CODE 4510-55-P